BUREAU OF CONSUMER FINANCIAL PROTECTION

12 CFR Part 1076

Claims Under the Federal Tort Claims Act for Loss of or Damage to Property or for Personal Injury or Death

AGENCY: Bureau of Consumer Financial Protection.

ACTION: Final rule.

SUMMARY: The Bureau of Consumer Financial Protection is adopting a procedural rule that sets forth the procedures for filing, processing, and paying awards based on administrative claims under the Federal Tort Claims Act for money damages for loss of or injury to property, or for personal injury or death, caused by the negligent or wrongful act or omission of any employee of the Bureau while acting within the scope of the employee's office or employment.

DATES: The rule is effective on August 5, 2013.

FOR FURTHER INFORMATION CONTACT: Margaret H. Plank, Senior Counsel, General Law and Ethics, Legal Division, Consumer Financial Protection Bureau, 1700 G Street NW., Washington, DC 20552, 202-435-7623.

SUPPLEMENTARY INFORMATION:

I. Background and Summary of the Rule

The Federal Tort Claims Act (FTCA), as amended, 28 U.S.C. 2671-2680, and the regulations issued by the Department of Justice (DOJ) contained in 28 CFR part 14, authorize the head of the Bureau or designee to consider, ascertain, adjust, determine, compromise, and settle claims for money damages against the United States for personal injury, death, or property loss or damage caused by the negligent or wrongful act or omission of any employee of the Bureau while acting within the scope of the employee's office or employment, under circumstances where the United States, if it were a private person, would be liable, in accordance with the law of the place where the act or omission occurred. This rule (Final Rule) establishes the Bureau's procedures for filing and processing any such claims.

Under the Final Rule, a claimant may present a covered claim to the Bureau by submitting a completed claim form and appropriate supporting information and evidence to the Bureau's General Counsel. The Final Rule authorizes the Bureau's General Counsel and members of the Legal Division designated by the General Counsel to consider and attempt to resolve claims. If the General Counsel or the General Counsel's designee disallows a claim, the General Counsel or designee will notify the claimant in writing.

II. Legal Authority and Effective Date

This Final Rule is issued under the FTCA, as amended, which authorizes the Attorney General to prescribe regulations for the administrative adjustment of claims by Federal agencies. 28 U.S.C. 2672. The Attorney General, in turn, has authorized each Federal agency to issue regulations and establish procedures consistent with 28 CFR part 14. 28 CFR 14.11.

The Final Rule is procedural and not substantive and, thus, is not subject to the 30-day delay in effective date required by 5 U.S.C. 553(d). The Bureau is making the Final Rule effective immediately upon publication in the Federal Register.

III. Regulatory Requirements

The Final Rule constitutes a Bureau rule of organization, procedure, or practice that is exempt from notice and public comment pursuant to 5 U.S.C. 553(b). Because notice of proposed rulemaking is not required, the Final Rule is not a “rule” as defined by the Regulatory Flexibility Act and the provisions of that statute do not apply. 5 U.S.C. 601(2). The Final Rule does not contain any new or revised information collection requirements that require the approval of the Office of Management and Budget (OMB) under the Paperwork Reduction Act. 44 U.S.C. 3501 et seq. The U.S. Department of Justice has previously obtained OMB approval for the Standard Form 95 and it is assigned the OMB control number 1105-0008. Please note that, notwithstanding any other provision of law, the Bureau may not conduct and persons are not required to respond to a collection of information unless it displays a currently valid OMB control number.

List of Subjects in 12 CFR Part 1076

Claims against the government, Government employees, Money damages.

Authority and Issuance

For the reasons set forth above, the CFPB amends Chapter X in Title 12 of the Code of Federal Regulations by adding a new part 1076 to read as follows:

CHAPTER X—BUREAU OF CONSUMER FINANCIAL PROTECTION

PART 1076—CLAIMS AGAINST THE UNITED STATES

Sec.
1076.101 Claims against a Bureau employee based on negligence, wrongful act or omission.

Authority: 12 U.S.C. 5492(a)(1), (11); 28 U.S.C. 2672; 28 CFR 14.11.

§ 1076.101 Claims against a Bureau employee based on negligence, wrongful act or omission.

(a) Procedure for filing claims. A claimant, or the claimant's duly authorized agent or legal representative may present a claim against a Bureau employee based on negligence, or wrongful act or omission, as specified in 28 CFR 14.3. Claimant or claimant's duly authorized agent or legal representative must file with the General Counsel of the Bureau a completed Claim for Damage or Injury (Standard Form 95), together with appropriate evidence and information, as specified in 28 CFR 14.4. Standard Form 95 may be obtained at http://www.justice.gov/civil/docs_forms./SF-95.pdf, or from the CFPB. Claimants also may submit a claim in the form of a letter or any other writing, a written statement, an audio file, a Braille or electronic document, and/or a video, as long as the submission contains all of the requirements of an administrative claim specified in 28 CFR part 14. Claims should be mailed or delivered to the General Counsel, Legal Division, CFPB, 1700 G Street NW., Washington, DC 20552, or emailed to CFPB_tortclaims@cfpb.gov.

(b) Determination of claims—(1) Delegation of authority to determine claims. The General Counsel, and such employees of the Legal Division as the General Counsel may designate are authorized to consider, ascertain, adjust, determine, compromise, and settle claims pursuant to the FTCA, as amended, and the regulations contained in 28 CFR part 14 and in this section.

(2) Disallowance of claims. If the General Counsel, or the General Counsel's designee, denies a claim, the General Counsel or designee shall notify the claimant, or the claimant's duly authorized agent or legal representative.

Dated: July 11, 2013.
Richard Cordray,
Director, Bureau of Consumer Financial Protection.

[FR Doc. 2013-18844 Filed 8-2-13; 8:45 am]

BILLING CODE 4810-AM-P